ENVIRONMENTAL PROTECTION AGENCY

[EPA-HQ-OPPT-2010-0563 FRL-8834-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from May 30, 2010 to June 18, 2010, consists of the PMNs pending or expired, and the notices of commencement to manufacture a new chemical that the Agency has received under TSCA section 5 during this time period.

DATES: Comments identified by the specific PMN number or TME number, must be received on or before August 9, 2010.

ADDRESSES: Submit your comments, identified by docket identification (ID) number EPA-HQ-OPPT-2010-0563, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2010-0563. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2010-0563. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Chemical Safety Pollution Prevention, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from May 30, 2010 to June 18, 2010, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 21 Premanufacture Notices Received From: 5/31/10 to 6/18/10
Case No. | Received Date | Projected Notice End Date | Manufacturer/Importer | Use | Chemical
P-10-0406 | 05/28/10 | 08/25/10 | CBI | (G) Polymer used to improve the scratch-resistance of thermoplastics (open / non-dispersive use) | (G) Alkene acrylate copolymer
P-10-0407 | 05/28/10 | 08/25/10 | CBI | (G) Coatings and inks | (G) Acrylate ester
P-10-0408 | 06/02/10 | 08/30/10 | Future Fuel Chemical Company | (S) Monomer in alkyl resins (to be used at 0-5% by industrial customers); monomer in surfactants (to be used by industrial customers in this application); solvent (to be used by industrial customers up to 90%); antifreeze in paints and coatings (to be used by industrial customers up to 5%); coalescing aid in inks and coatings (to be used by industrial customers up to 5%) | (S) 1,3-dioxan-5-ol
P-10-0408 | 06/02/10 | 08/30/10 | Future Fuel Chemical Company | (S) Monomer in alkyl resins (to be used at 0-5% by industrial customers); monomer in surfactants (to be used by industrial customers in this application); solvent (to be used by industrial customers up to 90%); antifreeze in paints and coatings (to be used by industrial customers up to 5%); coalescing aid in inks and coatings (to be used by industrial customers up to 5%) | (S) glycerol formal is a isomeric mixuture of 1,3 dioxan-5-ol, 1,3-dioxolane-4-methanol
P-10-0409 | 06/01/10 | 08/29/10 | Dow Chemical Company | (G) Chemical intermediate | (G) Haloalkyl substituted pyridine sulfide
P-10-0410 | 06/04/10 | 09/01/10 | CBI | (G) Open non-dispersive use (industrial coatings resin) | (G) Urethane acrylate aqueous dispersion
P-10-0411 | 06/04/10 | 09/01/10 | Dubois Chemicals Inc. | (S) Industrial boiler tratment | (G) Powdered amine
P-10-0412 | 06/07/10 | 09/04/10 | CBI | (G) Component of topcoat | (G) Acrylic polymer
P-10-0413 | 06/08/10 | 09/05/10 | Ineos olefins and polymers | (S) Catalyst for polyolefins polymerization | (S) Magnesium, 1-Butanol chloro titanium complexes
P-10-0414 | 06/08/10 | 09/05/10 | CBI | (G) Acid corrosion inhibitor | (G) Coco phosphonate
P-10-0415 | 06/10/10 | 09/07/10 | HM metal processing | (S) Flame retardant additive for polymeric products (plastics etc.) | (S) 1,3,4,6,7,9,9b-heptaazaphenalene-2,5,8-triamine
P-10-0416 | 06/10/10 | 09/07/10 | CBI | (G) Industrial liquid coatings | (G) Polymer of aliphatic acids, aliphatic diols, aliphatic polyols, and aromatic acids
P-10-0417 | 06/14/10 | 09/11/10 | CBI | (G) Resin for ultraviolet/free radical curable adhesives | (S) Amines, C36-alkylenedi-, polymers with 5,5′-[(1-methylethylidene)bis (4,1-phenyleneoxy)]bis[1,3-isobenzofurandione], maleated
P-10-0418 | 06/14/10 | 09/11/10 | CBI | (G) Leather coating component | (G) Aromatic dicarboxylic acid, polymer with cycloaliphatic diamine, aliphatic diisocyanate, aliphatic dicarboxylic acid, aliphatic diol, polyether diol, and dihydroxy aliphatic carboxylic acid compound with aliphatic triamine
P-10-0419 | 06/14/10 | 09/11/10 | Emery Oleochemicals LLC | (S) Polyester polyol for polyurethane ridged foam; polyester polyol for polyurethane flexible foam; polyester polyol for polyurethane coatings | (G) Ester polyol, fatty acid ester
P-10-0420 | 06/14/10 | 09/11/10 | Emery Oleochemicals LLC | (S) Polyester polyol for polyurethane ridged foam; polyester polyol for polyurethane flexible foam; polyester polyol for polyurethane coatings | (G) Ester polyol, fatty acid ester
P-10-0421 | 06/14/10 | 09/11/10 | CBI | (S) Optical brightener for use in cellulosic paper applications | (G) Triazinylaminostilbene
P-10-0422 | 06/11/10 | 09/08/10 | CBI | (G) Intermediate | (S) Propane, 1,1,1,2,3,-pentafluoro-
P-10-0423 | 06/15/10 | 09/12/10 | Organic Dyestuffs Corporation | (S) Distribution of acid dye for dyeing primarily nylon fibers; other dyeing applications as needed | (S) Benzenesulfonic acid 3,3′-[(9,10-dihydro-5,8-dihydroxy-9,10-dioxo-1,4-anthracenediyl)dimino]bis[6-butyl-], disodium salt
P-10-0424 | 06/17/10 | 09/14/10 | CBI | (G) Copper indium metal selenide deposited on a substrate as a part of manufacturing copper indium metal selenide solar panel. The finished solar panel with copper indium metal selenide deposited on the substrate is encapsulated with the complete solar panel unit. The solar panel is sold to commercial entities only. | (G) Copper indium metal selenide
P-10-0425 | 06/18/10 | 09/15/10 | CBI | (G) Component of energy generating systems | (G) Silicon derivative

In Table II of this unit, EPA provides the following information (to the extent that such information is not claimed as CBI) on the Notices of Commencement to manufacture received:

II. 17 Notices of Commencement From: 5/30/10 to 6/18/10
Case No. | Received Date | Commencement Notice End Date | Chemical
P-02-0265 | 06/08/10 | 05/02/02 | (S) Mixture of: 1,3-dioxane, 5-methyl-2-(2-methylpropyl)-, cis; 1,3-dioxane, 5-methyl-2-(2-methylpropyl)-, trans
P-06-0830 | 06/03/10 | 05/28/10 | (S) Fatty acids, rape-oil, me esters
P-09-0228 | 06/07/10 | 05/19/10 | (G) Fatty acids, polymers with substituted alkanoate, polyethylene glycol mono-me ether, polyol and substituted carbomonocycle
P-09-0242 | 06/07/10 | 05/19/10 | (G) Substituted acrylates, polymer with substituted polyglycol ether prepolymer, substituted alkylnitrile-initiated
P-09-0366 | 05/28/10 | 05/13/10 | (G) Fatty acids, reaction products with alkanolamine
P-09-0367 | 05/28/10 | 05/14/10 | (G) Fatty acids, reaction products with alkanolamine and alkyloxide
P-09-0637 | 06/02/10 | 05/14/10 | (G) Polyester isocyanate polymer
P-10-0052 | 06/02/10 | 05/21/10 | (G) Aryl polyolefin
P-10-0055 | 06/07/10 | 04/16/10 | (S) Butanoic acid, 3-hydroxy-, 5-methyl-2-(1-methylethyl)cyclohexyl ester
P-10-0056 | 06/07/10 | 04/16/10 | (S) Butanoic acid, 3-mercapo-2-methyl-, ethyl ester
P-10-0057 | 06/02/10 | 05/21/10 | (G) Polyolefin aryl amine
P-10-0061 | 06/08/10 | 05/27/10 | (G) Alkyl thiol, manufacture of, by-products from, distillation lights
P-10-0062 | 06/08/10 | 05/27/10 | (G) Alkyl thiol, manufacturer of, by-products from, distillation residues
P-10-0109 | 06/02/10 | 05/15/10 | (G) Urethane acrylate oligomer
P-10-0188 | 06/03/10 | 05/13/10 | (G) Wholly-aromatic polyester; liquid-crystal polymer (LCP).
P-10-0199 | 06/15/10 | 05/30/10 | (S) Isononanoic acid, C16-18 alkyl esters
P-98-0686 | 06/15/10 | 05/28/10 | (G) Nitrobenzoic acid, polyolefin phenol ethoxylate

List of Subjects

Environmental protection, Chemicals, Premanufacturer notices.

Dated: June 28, 2010.
Gloria Drayton-Miller,
Acting Director, Information Management Division, Office of Pollution Prevention and Toxics.

[FR Doc. 2010-16494 Filed 7-8-10; 8:45 am]

BILLING CODE 6560-50-S